DEPARTMENT OF LABOR

Employment and Training Administration

[NAFTA-3857]

Fort James Operating Company, Wauna Mill, Clatskanie, OR; Notice of Termination of Investigation

Pursuant to Section 221 of the Trade Act of 1974, an investigation was initiated on April 11, 2000, in response to a petition filed on behalf of workers at Fort James Operating Company, Wauna Mill, Clatskanie, Oregon.

The petitioner has requested that the petition be withdrawn. Consequently further investigation in this case would serve no purpose, and the investigation has been terminated.

Signed in Washington, DC this 30th day of May, 2000.
Grant D. Beale,
Program Manager, Division of Trade Adjustment Assistance.

[FR Doc. 00-14473 Filed 6-7-00; 8:45 am]

BILLING CODE 4510-30-M